Proclamation 8532 of May 28, 2010

Prayer for Peace, Memorial Day, 2010

By the President of the United States of America

A Proclamation

Since our Nation’s founding, America’s sons and daughters have given their lives in service to our country. From Concord and Gettysburg to Marne and Normandy, from Inchon and Khe Sanh to Baghdad and Kandahar, they departed our world as heroes and gave their lives for a cause greater than themselves.

On Memorial Day, we pay tribute to those who have paid the ultimate price to defend the United States and the principles upon which America was founded. In honor of our country’s fallen, I encourage all Americans to unite at 3:00 p.m. local time to observe a National Moment of Remembrance.

Today, Americans from all backgrounds and corners of our country serve with valor, courage, and distinction in the United States Armed Forces. They stand shoulder to shoulder with the giants of our Nation’s history, writing their own chapter in the American story. Many of today’s warriors know what it means to lose a friend too soon, and all our service members and their families understand the true meaning of sacrifice.

This Memorial Day, we express our deepest appreciation to the men and women in uniform who gave their last full measure of devotion so we might live in freedom. We cherish their memory and pray for the peace for which they laid down their lives. We mourn with the families and friends of those we have lost, and hope they find comfort in knowing their loved ones died with honor. We ask for God’s grace to protect those fighting in distant lands, and we renew our promise to support our troops, their families, and our veterans. Their unwavering devotion inspires us all—they are the best of America.

It is our sacred duty to preserve the legacy of these brave Americans, and it remains our charge to work for peace, freedom, and security. Let us always strive to uphold the founding principles they died defending; let their legacy continue to inspire our Nation; and let this solemn lesson of service and sacrifice be taught to future generations of Americans.

In honor of their dedication and service to America, the Congress, by a Joint Resolution, approved May 11, 1950, as amended (36 U.S.C. 116), has requested the President to issue a proclamation calling on the people of the United States to observe each Memorial Day as a day of prayer for permanent peace and designating a period on that day when the people of the United States might unite in prayer. The Congress, by Public Law 106-579, has also designated 3:00 p.m. local time on that day as a time for all Americans to observe, in their own way, the National Moment of Remembrance.

NOW, THEREFORE, I, BARACK OBAMA, President of the United States of America, do hereby proclaim Memorial Day, May 31, 2010, as a day of prayer for permanent peace, and I designate the hour beginning in each locality at 11:00 a.m. of that day as a time to unite in prayer. I also ask all Americans to observe the National Moment of Remembrance beginning at 3:00 p.m. local time on Memorial Day.

I request the Governors of the United States and the Commonwealth of Puerto Rico, and the appropriate officials of all units of government, to direct that the flag be flown at half-staff until noon on this Memorial Day on all buildings, grounds, and naval vessels throughout the United States and in all areas under its jurisdiction and control. I also request the people of the United States to display the flag at half-staff from their homes for the customary forenoon period.

IN WITNESS WHEREOF, I have hereunto set my hand this twenty-eighth day of May, in the year of our Lord two thousand ten, and of the Independence of the United States of America the two hundred and thirty-fourth.

[FR Doc. 2010-13677

Filed 6-4-10; 8:45 am]

Billing code 3195-W0-P